FEDERAL COMMUNICATIONS COMMISSION

47 CFR Part 15

[ET Docket No. 03-122; FCC 06-12]

Unlicensed Devices in the 5 GHz Band

AGENCY: Federal Communications Commission.

ACTION: Final rule.

SUMMARY: This document extends for 180 days the transition periods for unlicensed National Information Infrastructure (U-NII) equipment operating in the 5.250-5.350 GHz bands. This action will allow parties to continue to obtain equipment authorizations for such equipment and to market it under the rules in effect prior to the adoption of the 5 GHz U-NII Report and Order pending the development of measurement procedures for evaluating these devices for compliance with the new rules.

DATES: Effective February 16, 2006.

FOR FURTHER INFORMATION CONTACT: Shameeka Hunt, Policy and Rules Division, Office of Engineering and Technology, (202) 418-2062, e-mail: Shameeka.Hunt@fcc.gov.

SUPPLEMENTARY INFORMATION: This is a summary of the Commission's Order, ET Docket No. 03-122, FCC 06-12, adopted February 15, 2006, and released February 16, 2006. The full text of this document is available for inspection and copying during regular business hours in the FCC Reference Center (CY-A257) 445 12th Street, SW., Washington, DC 20554. The complete text of this document also may be purchased from the Commission's copy contractor, Best Copy and Printing Inc., Portals II, 445 12th Street, SW., Room CY-B402, Washington, DC 20554; telephone (202) 488-5300; fax (202) 488-5563; e-mail FCC@BCPIWEB.COM.

Summary of the Order

1. The Commission, National Telecommunications and Information Administration (NTIA), and the U-NII equipment industry are continuing to work together to develop test procedures to ensure that DFS adequately protects most Federal Government radar systems and have now completed a draft plan of test procedures. We anticipate NTIA will soon submit the revised measurement procedure to the Commission for consideration. The Commission will issue the updated measurement procedures for the certification of U-NII equipment containing DFS and TPC capabilities.

2. We note that the cut-off date for applications for equipment certification for products without DFS and TPC that operate in the 5.250-5.350 GHz band is January 20, 2006. We therefore are extending this cut-off date by 180 days in order to allow sufficient time for manufacturers to incorporate DFS into U-NII devices and comply with the rules including the new test procedures. Therefore, effective July 20, 2006, all devices for which an initial application for equipment certification is filed for U-NII equipment operating in the 5.250-5.350 GHz band must meet the rules adopted in the 5 GHz U-NII Report and Order. We also extend by 180 days the two-year cut-off date for marketing and importation of equipment designed to operate in only the 5.250-5.350 GHz band. Therefore, U-NII equipment operating in the 5.250-5.350 GHz band that are imported or marketed on or after July 20, 2007 must comply with the DFS and TPC requirements adopted in the 5 GHz U-NII Report and Order. We note that users who obtained equipment prior to any of these cut-off dates will be allowed to continue to use that equipment indefinitely. Finally, because our action today temporarily relieves a restriction, i.e., the cut-off dates for equipment authorizations and the marketing of U-NII equipment in the 5.250-5.350 GHz band, we make this Order effective upon release.

Ordering Clauses

3. The Congressional Review Act (CRA), was addressed in a Report and Order released by the Commission, on November 18, 2003, in “In the Matter of Revision of Parts 2 and 15 of the Commission's rules to permit Unlicensed National Information Infrastructure (U-NII) devices in the 5 GHz band” in this proceeding, FCC 03-287, 69 FR 2677, January 20, 2004. This Order does not change any rules, it only extends the transition period for unlicensed U-NII devices. Therefore, the CRA requirements have already been fulfilled for this rule.

4. Pursuant to sections 4(i), 303(f), and 303(r) of the Communications Act of 1934, as amended, 47 U.S.C. 154(i), 303(f), and 303(r), and Section 553(d) of the Administrative Procedure Act, 5 U.S.C. 553(d), the Order is hereby adopted.

5. Section 15.37(l), 47 CFR is hereby amended, as set forth in the rule change and shall become effective February 16, 2006.

List of Subjects in 47 CFR Part 15

Communication equipment, Radio, Reporting and recordkeeping requirements.

Federal Communications Commission.
Marlene H. Dortch,
Secretary.

Rule Change

For the reasons discussed in the preamble, the Federal Communications Commission amends 47 CFR part 15 as follows:

PART 15—RADIO FREQUENCY DEVICES

1. The authority citation for part 15 continues to read as follows:

Authority: 47 U.S.C. 154, 302a, 303, 304, 307, 336, and 544A.

2. Section 15.37 is amended by revising paragraph (l) to read as follows:

§ 15.37 Transition provisions for compliance with the rules.

* * * * *

(l) U-NII equipment operating in the 5.25-5.35 GHz band for which applications for certification are filed on or after July 20, 2006 shall comply with the DFS and TPC requirements specified in § 15.407. U-NII equipment operating in the 5.25-5.35 GHz band that are imported or marketed on or after July 20, 2007 shall comply with the DFS and TPC requirements in § 15.407.

* * * * *

[FR Doc. 06-1966 Filed 3-7-06; 8:45 am]

BILLING CODE 6712-01-P